FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 5, 2023.

A. Federal Reserve Bank of Kansas City (Jeffrey Imgarten, Assistant Vice President) One Memorial Drive, Kansas City, Missouri 64198-0001) Comments can also be sent electronically to KCApplicationComments@kc.frb.org:

1. David Clawson, individually, and as co-trustee of the LAC Clawson Irrevocable Trust, the TD Clawson Irrevocable Trust, and the MBCW Irrevocable Trust, all of Plains, Kansas; to retain voting shares of Plains Bancshares, Inc., and thereby indirectly retain voting shares of Bank of the Plains, both of Plains, Kansas (formerly known as The Plains State Bank). Additionally, the TD Clawson Irrevocable Trust, and David Clawson and Daniel Clawson, Plains, Kansas, as co-trustees, and Selah Farms LLC and Skybound Farms LLC, both of Meade, Kansas; to join the Clawson Family Group, a group acting in concert, to retain voting shares of Plains Bancshares, Inc. David Clawson was previously approved by the Federal Reserve as a member of the Clawson Family Control Group.

Board of Governors of the Federal Reserve System.
Michele Taylor Fennell,
Deputy Associate Secretary of the Board.

[FR Doc. 2023-17929 Filed 8-18-23; 8:45 am]

BILLING CODE P